DEPARTMENT OF HEALTH AND HUMAN SERVICES

National Institutes of Health

Submission for OMB Review; 30-Day Comment Request; PHS Research Performance Progress Report and Other Post-Award Reporting (Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Ms. Mikia P. Currie, Program Analyst, Office of Policy for Extramural Research Administration, 6705 Rockledge Drive, Suite 803-B, Bethesda, Maryland 20892, or call non-toll-free number (301) 435-0941 or email your request, including your address to: ProjectClearanceBranch@mail.nih.gov.

SUPPLEMENTARY INFORMATION: This proposed information collection was previously published in the Federal Register on June 8, 2022, pages 34888/34889 (87 FR 34888) and allowed 60 days for public comment. No public comments were received. The purpose of this notice is to allow an additional 30 days for public comment.

The Office of the Director, Office of Extramural Research (OER), National Institutes of Health (NIH), may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Public Health Service (PHS) Research Performance Progress Report and Other Post-award Reporting -0925-0002 expiration date- 09/30/2024, REVISION, Office of the Director, National Institutes of Health (NIH).

Need and Use of Information Collection: This collection under 0925-0002 expiration date 09/30/2024 is being revised to update the non-competing progress report collections for the implementation of the final National Institutes of Health (NIH) Policy for Data Management and Sharing (DMS Policy) to promote the management and sharing of scientific data generated from NIH-funded or conducted research. Starting in January 2023, NIH will require applicants and recipients to submit and address Data Management and Sharing (DMS) Plans within the SF424 Research and Related (R&R) application and the Research Performance Progress Report (RPPR) in accordance with the DMS Policy. The application and progress report forms will be updated to align with this requirement. NIH is also introducing a new, optional Data Management and Sharing (DMS) Plan format page that applicants may use to develop their DMS Plan. This collection will also update the PHS 2271 Statement of Appointment for trainees appointed institutional training awards to report on childcare cost support received. This collection is also updated to remove the iEdison instrument in accordance with the transfer of the iEdison system to the National Institute of Standards and Technology (NIST) under the Department of Commerce (DOC). NIST will maintain OMB clearance under 0693-0090.

OMB approval is requested for three years. There are no costs to respondents other than their time. The total estimated annualized burden hours are.

Estimated Annualized Burden Hours
Information collection forms | Number of respondents | Number of responses per respondent | Average burden per response (in hours) | Total annual burden hours
REPORTING
PHS 416-7 | 12,580 | 1 | 30/60 | 6,290
PHS 6031-1 | 1,778 | 1 | 20/60 | 593
PHS 568 | 11,180 | 1 | 5/60 | 932
PHS 2271 | 22,035 | 1 | 15/60 | 5,509
PHS 2590 | 243 | 1 | 18 | 4,374
RPPR - Core Data | 32,098 | 1 | 8 | 256,784
Biosketch (Part of RPPR) | 2,544 | 1 | 2 | 5,088
Data Tables (Part of RPPR) | 758 | 1 | 4 | 3,032
Trainee Diversity Report (Part of RPPR) | 480 | 1 | 15/60 | 120
PHS Human Subjects and Clinical Trial Information (Part of RPPR, includes inclusion enrollment report) | 6,420 | 1 | 4 | 25,680
Publication Reporting | 97,023 | 3 | 5/60 | 24,256
Final RPPR—Core Data | 18,000 | 1 | 10 | 180,000
Data Tables (Part of Final RPPR) | 758 | 1 | 4 | 3,032
Trainee Diversity Report (Part of Final RPPR) | 480 | 1 | 15/60 | 120
PHS Human Subjects and Clinical Trial Information (Part of Final RPPR, includes inclusion/enrollment) | 3,600 | 1 | 4 | 14,400
PHS 3734 | 479 | 1 | 30/60 | 240
Data Management and Sharing Plan (Part of RPPR) | 15,649 | 1 | 2 | 31,298
Data Management and Sharing Plan (Part of Final RPPR) | 8,621 | 1 | 2 | 17,242
Reporting Burden Total |  |  |  | 578,990
RECORDKEEPING
SBIR/STTR Life Cycle Certification | 1,500 | 1 | 15/60 | 375
Total | 236,226 | 430,272 |  | 579,365

Dated: September 27, 2022.
Tara A. Schwetz,
Acting Principal Deputy Director, National Institutes of Health.

[FR Doc. 2022-21547 Filed 10-3-22; 8:45 am]

BILLING CODE 4140-01-P